DEPARTMENT OF DEFENSE

Office of the Secretary

Defense Intelligence Agency, Advisory Board, Standing Committee of Emerging Chemical and Biological Technology Advisory Committee of Experts Close Panel Meeting

AGENCY: Department of Defense, Defense Intelligence Agency.

ACTION: Notice.

SUMMARY: Pursuant to the provisions of Subsection (d) of Section 10 of Public Law 92-463, as amended by Section 5 of Public Law 92-409, notice is hereby given that a closed meeting of the DIA Advisory Board, Standing Committee on Emerging Chemical and Biological Technology Advisory Committee of Experts was held as follows:

DATES: 5 & 6 June 2002 (0800am-1700pm).

ADDRESSES: Washington, DC 20009.

FOR FURTHER INFORMATION CONTACT: Mr. Jack A. McNulty, Director, DIA Advisory Board, Standing Committee on Emerging Chemical and Biological Technology Advisory Committee of Experts, Washington, DC 20340-1328, (202) 231-3507.

SUPPLEMENTARY INFORMATION: The entire meeting was devoted to the discussion of classified information as defined in Section 552b(c)(I), Title 5 of the United States Code, and therefore was closed to the public. The Board received briefings on and discussed several current critical intelligence issues and advised the Director, DIA, on related scientific and technical matters.

Dated: June 6, 2002.
Patricia L. Toppings,
Alternate OSD Federal Register Liaison Officer, Department of Defense.

[FR Doc. 02-14705 Filed 6-11-02; 8:45 am]

BILLING CODE 5001-08-M